DEPARTMENT OF DEFENSE

Department of the Navy

32 CFR Part 733

Assistance to and Support of Dependents; Paternity Complaints

CFR Correction

In Title 32 of the Code of Federal Regulations, Parts 700 to 799, revised as of July 1, 2012, on pages 371 and 372, in § 733.3, paragraphs (b)(3) through (8) are correctly redesignated as paragraphs (a)(3) through (8).

[FR Doc. 2013-10963 Filed 5-6-13; 8:45 am]

BILLING CODE 1505-01-D